DEPARTMENT OF DEFENSE

Office of the Secretary

Uniform Formulary Beneficiary Advisory Panel; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Uniform Formulary Beneficiary Advisory Panel (UFBAP) will take place.

DATES: Open to the public on day 1 of the meeting Tuesday, January 25, 2022, 10:00 a.m.-6:00 p.m. and on Day 2 of the meeting January 26, 2022, 9:00 a.m.-6:00 p.m. (Eastern Standard Time).

ADDRESSES: The meeting will be held telephonically or via conference call. The phone number for the remote access on January 25-26, 2022 is: CONUS: 1-888-946-3815; OCONUS: 1-415-228-4881; PARTICIPANT CODE: 6978956.

These numbers and the dial-in instructions will also be posted on the Uniform Formulary Beneficiary Advisory Panel website at: https://www.health.mil/About-MHS/OASDHA/Defense-Health-Agency/Operations/Pharmacy-Division/Beneficiary-Advisory-Panel.

FOR FURTHER INFORMATION CONTACT: Colonel Paul J. Hoerner, USAF, 703-681-2890 (Voice), dha.ncr.j-6.mbx.baprequests@mail.mil (Email). Mailing address is 7700 Arlington Boulevard, Suite 5101, Falls Church, VA 22042-5101. Website: https://www.health.mil/About-MHS/OASDHA/Defense-Health-Agency/Operations/Pharmacy-Division/Beneficiary-Advisory-Panel. The most up-to-date changes to the meeting agenda can be found on the website.

SUPPLEMENTARY INFORMATION: Due to circumstances beyond the control of the Department of Defense and the Designated Federal Officer, the UFBAP was unable to provide public notification required by 41 CFR 102-3.150(a) concerning its January 25 through 26, 2022 meeting. Accordingly, the Advisory Committee Management Officer for the Department of Defense, pursuant to 41 CFR 102-3.150(b), waives the 15-calendar day notification requirement. This meeting is being held under the provisions of the Federal Advisory Committee Act (FACA) (5 U.S.C., Appendix) and 41 CFR 102-3.140 and 102-3.150. The Panel will review and comment on recommendations made to the Director, Defense Health Agency, by the Pharmacy and Therapeutics Committee, regarding the Uniform Formulary.

Purpose of the Meeting: The DoD is publishing this notice to announce that the following Federal Advisory Committee meeting of the Uniform Formulary Beneficiary Advisory Panel will take place.

Agenda Items

1. Day 1—January 25, 2022

a. 10:00 a.m.-10:10 a.m. Sign In for UFBAP members

b. 10:10 a.m.-10:20 a.m. Welcome and Opening Remarks by Col Paul J. Hoerner, Designated Federal Officer (DFO), UFBAP

c. 10:20 a.m.-10:30 a.m. Introduction of UFBAP Members by Col Hoerner

d. 10:30 a.m.-10:45 a.m. Opening Remarks by UFBAP Co-Chair Senior Chief Petty Officer (Ret) Jon R. Ostrowski, Non-Commissioned Officers Association

e. 10:45 a.m.-11:00 a.m. Introductory Remarks by CDR Scott Raisor, Interim Chief, Formulary Management Branch

2. Discussion of the February 2021 DoD P&T Committee Recommendations

Scheduled Therapeutic Class Reviews

a. 11:00 a.m.-11:30 a.m. Breast Cancer Agents: Cyclin Dependent Kinase Inhibitors (LCDR Todd Hansen)

b. 11:30 a.m.-12:00 p.m. Pulmonary III Agents (Dr. Angela Allerman)

c. 12:00 p.m.-1:00 p.m. Break for Lunch

d. 1:00 p.m.-1:45 p.m. Newly Approved Drugs Review (Dr. Amy Lugo, and other FMB staff, including CDR Raisor, and MAJ Adam Davies)

e. 1:45 p.m.-2:45 p.m. Pertinent Utilization Management Issues (MAJ Davies, and other FMB staff, including Dr. Allerman, and CDR Raisor)

* Note that the UFBAP Discussion and Vote will follow each section

f. 2:45 p.m.-3:00 p.m. Break

3. Discussion of the May 2021 DoD P&T Committee Recommendations

Scheduled Therapeutic Class Reviews

a. 3:00 p.m.-3:30 p.m. Menopausal Hormone Therapy: Single Agents, Combination Agents, and Vaginal Agents (LCDR Elizabeth Hall)

b. 3:30 p.m.-4:00 p.m. Sleep Disorders: Insomnia (Dr. Lugo)

c. 4:00 p.m.-4:45 p.m. Newly Approved Drugs Review (Dr. Lugo, and other FMB staff including, LCDR Hall, MAJ Davies, LCDR Hansen, and Dr. Allerman)

d. 4:45 p.m.-5:15 p.m. Pertinent Utilization Management Issues (MAJ Davies and other FMB staff including Dr. Allerman, Dr. Lugo, and LCDR Hall)

e. 5:15 p.m.-5:30 p.m. Re-evaluation of Nonformulary generics (Dr. Allerman)

* Note that the UFBAP Discussion and Vote will follow each section

f. 5:30 p.m.-5:45 p.m. Closing Remarks by Senior Chief Petty Officer (Ret) Ostrowski

g. 5:45 p.m.-6:00 p.m. Closing Remarks by Col Hoerner

Agenda Items

1. Day 2—January 26, 2022

a. 9:00 a.m.-9:10 a.m. Sign In for UFBAP members

b. 9:10 a.m.-9:15 a.m. Welcome and Opening Remarks by Col Hoerner

c. 9:15 a.m.-9:30 a.m. Opening Remarks by Senior Chief Petty Officer (Ret) Ostrowski

2. Discussion of the August 2021 DoD P&T Committee Recommendations

Scheduled Therapeutic Class Reviews

a. 9:30 a.m.-10:00 a.m. Leukemia and Lymphoma Agents, Burton Tyrosine Kinase Inhibitors LCDR Hansen)

b. 10:00 a.m.-10:30 a.m. Laxative-Cathartics-Stool Softeners—Bowel Preparations (Dr. Lugo)

c. 10:30 a.m.-10:45 a.m. Break

d. 10:45 a.m.-11:45 a.m. Newly Approved Drugs Review (Dr. Lugo and other FMB staff, including LCDR Hall, LCDR Hansen, Dr. Allerman, CDR Raisor, and MAJ Davies)

e. 11:45 a.m.-12:45 p.m. Pertinent Utilization Management Issues (MAJ Davies and other FMB staff, including Dr. Lugo, and CDR Raisor)

f. 12:45 p.m.-1:00 p.m. Tier Co-Payment Change for the Pulmonary III Agents (CDR Raisor)

g. 1:00 p.m.-1:15 p.m. Brand over Generic Authorization and Tier 1 Co-Payment Change for the Pulmonary Arterial Hypertension Drugs (Dr. Allerman)

* Note that the UFBAP Discussion and Vote will follow each section

h. 1:15 p.m.-2:15 p.m. Break for Lunch

3. Discussion of the November 2021 DoD P&T Committee Recommendations

Scheduled Therapeutic Class Reviews

a. 2:15 p.m.-3:00 p.m. Continuous Glucose Monitoring Systems—Therapeutic Agents (Dr. Lugo)

b. 3:00 p.m.-3:30 p.m. Immunological Agents Miscellaneous—Subcutaneous Immunoglobulins (LCDR Hansen)

c. 3:30 p.m.-4:30 p.m. Newly Approved Drugs Review (Dr. Lugo and other FMB staff including LCDR Hansen, LCDR Giao Phung, LCDR Hall, MAJ Davies and Maj Angelina Escano)

d. 4:30 p.m.-4:45 p.m. Break

e. 4:45 p.m.-5:45 p.m. Pertinent Utilization Management Issues (MAJ Davies)

*Note that the UFBAP Discussion and Vote will follow each section

f. 5:45 p.m.-5:55 p.m. Closing Remarks by Senior Chief Petty Officer (Ret) Ostrowski

g. 5:55 p.m.-6:00 p.m. Closing Remarks by Col Hoerner

Meeting Accessibility: Pursuant to section 10(a)(1) of the FACA and 41 CFR 102-3.140 through 102-3.165, and subject to the availability of phone lines, this meeting is open to the public. Telephone lines are limited and available to the first 220 people dialing in. There will be 220 line total: 200 domestic and 20 international, including leader lines.

Written Statements: Pursuant to 41 CFR 102-3.10, and section 10(a)(3) of FACA, interested persons or organizations may submit written statements to the Uniform Formulary Beneficiary Advisory Panel about its mission and/or the agenda to be addressed in this public meeting. Written statements should be submitted to the Uniform Formulary Beneficiary Advisory Panel's Designated Federal Officer (DFO). The DFO's contact information can be found in the FOR FURTHER INFORMATION CONTACT section of this notice. Written comments or statements must be received by the Uniform Formulary Beneficiary Advisory Panel's DFO at least two (2) calendar days prior to the meeting so they may be made available to the Uniform Formulary Beneficiary Advisory Panel for its consideration prior to the meeting. The DFO will review all submitted written statements and provide copies to all Uniform Formulary Beneficiary Advisory Panel members.

Dated: January 12, 2022.
Aaron T. Siegel,
Alternate OSD Federal Register, Liaison Officer, Department of Defense.

[FR Doc. 2022-00887 Filed 1-18-22; 8:45 am]

BILLING CODE 5001-06-P